DEPARTMENT OF DEFENSE

Office of the Secretary

[Transmittal No. 21-09]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 21-09 with attached Policy Justification and Sensitivity of Technology.

Dated: January 8, 2021.
Aaron T. Siegel,
Alternate OSD Federal Register Liaison Officer, Department of Defense.

BILLING CODE 5001-06-P

BILLING CODE 5001-06-C

Transmittal No. 21-09

Notice of Proposed Issuance of Letter of Offer Pursuant to Section 36(b)(1) of the Arms Export Control Act, as amended

(i) Prospective Purchaser: Government of Kazakhstan

(ii) Total Estimated Value:

Major Defense Equipment * | $ 6.1 million
Other | $122.0 million
TOTAL | $128.1 million

(iii) Description and Quantity or Quantities of Articles or Services under Consideration for Purchase:

Major Defense Equipment (MDE): Three (3) Raytheon AST TITAN Communications Intelligence (COMINT) Sensor Suites (2 installed, 1 spare)

Non-MDE: Also included are two (2) King Air B300ER Scorpion aircraft; three (3) Leonardo Osprey 30 Active Electronically Scanned Array (AESA) radars (2 installed, 1 spare); three (3) WESCAM MX-15HDi Elector Optical Infrared Turret Electro Optical Infrared Sensors (2 installed, 1 spare); three (3) Sierra Nevada Small SWAP Auto Electronic Intelligence (ELINT) Systems (2 installed, 1 spare); secure communications; fixed and transportable ground control station; ground support equipment; aircraft integration and test support; publications and technical documentation; personnel training and training equipment; spare, component and repair parts; software and software support; US Government and contractor engineering, technical, and logistical support services, and other related elements of program and logistical support.

(iv) Military Department: Air Force (KZ-D-SAA)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 22, 2020

* As defined in Section 47(6) of the Arms Export Control Act.

POLICY JUSTIFICATION

Kazakhstan—King Air B300ER Scorpion Aircraft with Intelligence, Surveillance, Reconnaissance (ISR) Mission Systems

The Government of Kazakhstan has requested to buy three (3) Raytheon AST TITAN Communications Intelligence (COMINT) Sensor Suites (2 installed, 1 spare). Also included are two (2) King Air B300ER Scorpion aircraft; three (3) Leonardo Osprey 30 Active Electronically Scanned Array (AESA) radars (2 installed, 1 spare); three (3) WESCAM MX-15HDi Elector Optical Infrared Turret Electro Optical Infrared Sensors (2 installed, 1 spare); three (3) Sierra Nevada Small SWAP Auto Electronic Intelligence (ELINT) Systems (2 installed, 1 spare); secure communications; fixed and transportable ground control station; ground support equipment; aircraft integration and test support; publications and technical documentation; personnel training and training equipment; spare, component and repair parts; software and software support; US Government and contractor engineering, technical, and logistical support services, and other related elements of program and logistical support. The estimated total cost is $128.1 million.

This proposed sale will support the foreign policy goals and national security objectives of the United States by improving the security of a partner country that is a force for political stability and economic progress in Central Asia.

The proposed sale will improve Kazakhstan's capability to meet current and future threats by improving its capability to deter regional threats and conduct border security operations. Kazakhstan will have no difficulty absorbing this equipment and services into its armed forces.

The proposed sale of this equipment and support will not alter the basic military balance in the region.

The principal contractor will be Sierra Nevada Corporation, Hagerstown, MD. There are no known offset agreements proposed in conjunction with this potential sale.

Implementation of this proposed sale will not require the assignment of any additional U.S. Government or contractor representatives to Kazakhstan.

There will be no adverse impact on U.S. defense readiness as a result of this proposed sale.

Transmittal No. 21-09

Notice of Proposed Issuance of Letter of Offer Pursuant to Section 36(b)(1) of the Arms Export Control Act

Annex

Item No. vii

(vii) Sensitivity of Technology:

1. The King Air B300ER Scorpion is a twin turbo prop aircraft that provides manned surveillance. The King Air B300ER Scorpion provides persistent, real-time route surveillance and border security, counter-terrorism, and smuggling interdiction support for naval and coastal operations, internal defense, and search and rescue operations.

2. The Leonardo Osprey 30 is an Active Electronically Scanned Array (AESA) Radar System that provides the King Air aircraft with all-weather, multi-mission capability for performing Air-to-Air, Air-to-Ground, and Air-to-Maritime surveillance. Air surveillance mode provides a capability for single target tracking and weather mode. Land surveillance mode provides high-resolution ground mapping and navigation. Maritime surveillance mode provides for small target detection and embedded automatic identification system.

3. The WESCAM MX-15HDi Elector Optical Infrared Turret provides high definition video with laser illuminator and laser range-finding capabilities. The sensor is on an electrically operated lift which is located in the extended nose.

4. The Raytheon AST TITAN System provides communications intelligence which searches, collects, analyzes, identifies, locates, records, and disseminates emitter data with range and bearing information. The TITAN System will also include a cellular intercept capability.

5. The Sierra Nevada Small SWAP Auto ELINT system analyses the electromagnetic spectrum to identify and provide the location of the active emitter. The threat library is not being provided but will be developed by the end-user as they conduct missions.

6. The highest level of classification of defense articles, components, and services included in this potential sale is UNCLASSIFIED.

7. If a technologically advanced adversary were to obtain knowledge of the specific hardware and software elements, the information could be used to develop countermeasures that might reduce weapon system effectiveness or be used in the development of a system with similar or advanced capabilities.

8. A determination has been made that Kazakhstan can provide substantially the same degree of protection for the sensitive technology being released as the U.S. Government. This sale is necessary in furtherance of the U.S. foreign policy and national security objectives outlined in the Policy Justification.

9. All defense articles and services listed in this transmittal have been authorized for release and export to Kazakhstan.

[FR Doc. 2021-00634 Filed 1-13-21; 8:45 am]

BILLING CODE 5001-06-P